DEPARTMENT OF JUSTICE

Office of Justice Programs

[OJP(BJS)-1347]

Bureau of Justice Statistics; 2002 Census of Law Enforcement Training Academies

AGENCY: Bureau of Justice Statistics, Office of Justice Programs, Justice.

ACTION: Notice of Solicitation.

SUMMARY: The purpose of this notice is to announce a public solicitation to obtain a data collection agent for the 2002 Census of Law Enforcement Training Academies.

DATES: Proposals must be received at the Bureau of Justice Statistics (BJS) on or before 5:00 p.m. EST, March 29, 2002 or be postmarked on or before March 29, 2002.

ADDRESSES: Proposals should be sent to Application Coordinator, Bureau of Justice Statistics, 810 Seventh Street, NW, Washington, DC 20531; T: (202) 616-3497 or fax (202) 307-5846 or e-mail stanford@ojp.usdoj. Due to recent interruptions in mail service, it is recommended that applicants fax, e-mail, use a professional delivery service (e.g., FedEx, UPS, etc.), or personally deliver applications to ensure timely receipt. For parcel delivery service, please use the following address: Application Coordinator, Bureau of Justice Statistics, 810 Seventh Street, NW, Washington, DC 20001.

FOR FURTHER INFORMATION CONTACT: Matthew Hickman, Statistician, Bureau of Justice Statistics, 810 Seventh Street, NW, Washington, DC 20531; Phone (202) 353-1631 [This is not a toll free number]; E-mail: hickmanm@ojp.usdoj.gov.

SUPPLEMENTARY INFORMATION:

Statutory Authority

The awards made pursuant to this solicitation will be funded by the Bureau of Justice Statistics consistent with the provisions of 42 U.S.C. 3732.

Program Goals

The purpose of this award is to provide funding to administer the 2002 Census of Law Enforcement Training Academies. The survey will obtain baseline information about national law enforcement training practices, and will be used to examine variation in the characteristics of training staff, recruits/trainees, training curricula, training facilities, and policies. The initial survey instrument and respondent list (approximately 800 respondents) will be provided by BJS.

BJS anticipates making one award for a 12-month period under this solicitation. A total of up to $250,000 will be made available to complete the project pending OMB clearance.

Background

The implementation of the 2002 Census of Law Enforcement Training Academies is part of an effort by BJS to expand statistical activities related to American law enforcement generally, and law enforcement training in particular. To date, there is no comprehensive data collection targeted at individual training academies, their training practices, staff, recruits, curricula, facilities, or policies. The survey will include special topic areas, such as instruction in community policing, use of force, and racial profiling. Findings from the Census are designed to provide a systematic understanding of the nature and extent of law enforcement training in America. The survey will provide important information for the development and expansion of law enforcement training, and the information may be useful for policy makers engaged in research, planning, and budgeting.

Performance Measurement

Timeliness—The data collection will begin within three months of the award date. The project will be completed within twelve months of the start date.

Response Time—The data collection agent should achieve a 100% survey response rate and a 100% survey item response rate.

Eligibility Requirements

Both profit making and nonprofit organizations may apply for funds. Consistent with OJP fiscal requirements, however, no fees may be charged against the project by profit-making organizations.

Scope of Work

The objective of this project is to complete data collection for the 2002 Census of Law Enforcement Training Academies. This includes extensive follow up, data verification, coding and data entry, and delivery of a final data set and documentation. The initial survey instrument and respondent list will be provided by BJS. Specifically, the recipient of funds will:

1. Develop a detailed timetable for each task in the project. Data collection should begin within three months of the project start and be completed within twelve months. After the BJS project manager has agreed to the timetable, all work must be completed as scheduled.

2. Provide a final review of the survey instrument drafted by BJS for form and content.

3. Verify the names, addresses, and appropriate contact from the respondent list provided by BJS.

4. Conduct a pre-test of the survey instrument in a minimum of two sites to assure that survey items are perceived by respondents as intended and can be provided in a timely manner.

5. Mail surveys to respondents and provide extensive follow up to respondents that require help, clarification, or encouragement to complete the survey. This may involve multiple follow up telephone calls, re-mailing or re-faxing surveys, e-mail correspondence, and site visits where necessary.

6. Implement and maintain an automated system to provide ongoing status of each survey respondent, complete documentation, and an inventory of follow up communication and procedures for each case. This automated tracking system should remain current and accessible to the BJS project monitor at all times.

7. Identify techniques necessary to achieve a 100% survey response rate. This data collection is a comprehensive census of training academies.

8. Identify techniques necessary to achieve a 100% survey item response rate. The data collection agent will have routine contact with the training academies and must be knowledgeable about the content of the instrument.

9. Deliver to BJS electronic versions of the survey data, and documentation on diskette and in ASCII file format. Survey documentation should include, but is not limited to, a comprehensive codebook detailing variable positions, data coding, variable and value labels, any recoding implemented during the data cleaning process, methods used for dealing with missing data, any data allocations, imputation, or non-response adjustment, and copies of all program code used to generate data or published statistics. All data and documentation from this survey may be posted on the BJS Web site, and data archived at the Inter-University Consortium for Political and Social Research (ICPSR).

Award Procedures and Evaluation Criteria

Proposals should describe the plan and implementation strategies outlined in the Scope of Work. Information on staffing levels and qualifications should be included for each task and descriptions of experience relevant to the project. Resumes of the proposed project director and key staff should be enclosed with the proposal.

Applications will be reviewed competitively with the final award decision made by the Director of BJS. The applicant will be evaluated on the basis of:

1. Demonstrated knowledge of applied survey research, including survey construction, interview techniques, data collection, data coding, entry and verification, and the production of public use data files. This includes availability of an adequate computing environment, knowledge of standard social science data processing software, and demonstrated ability to produce SPSS readable data files for analysis and report production.

2. Demonstrated ability and experience in collecting data from law enforcement agencies or similar entities.

3. Demonstrated fiscal, management, staff, and organizational capacity to provide sound management for this project. Applicant should include detailed staff resources and other costs by project tasks.

Application and Award Process

• An original and two (2) copies of the full proposal must be submitted including:

• Standard Form 424, Application for Federal Assistance

• OJP Form 7150/1, Budget Detail Worksheet

• OJP Form 4000/3, Program Narrative and Assurances

• OJP Form 4061/6, Certification regarding Lobbying, Debarment, Suspension, and Other Responsibility Matters; Drug Free Workplace requirements

• OJP Form 7120-1, Accounting System and Financial Capability Questionnaire (to be submitted by applicants who have not previously received Federal Funds from the Office of Justice Programs).

These forms can be obtained online from www.ojp.usdoj.gov/forms.htm.

In addition, fund recipients are required to comply with regulations designed to protect human subjects and ensure confidentiality of data. In accordance with 28 CFR part 22, a Privacy Certificate must be submitted to BJS. Furthermore, a Screening Sheet for Protection of Human Subjects must be completed prior to the award being issued. Questions regarding Protection of Human Subjects and/or Privacy Certificate requirements can be directed to the Human Subjects Protection Officer (HSPO) at (202) 616-3282 [This is not a toll free number].

Proposals must include a project description and detailed budget. The project narrative should describe activities as discussed in the Scope of Work and address the evaluation criteria. The project narrative should contain a detailed time line for project activities, a description of the survey methodology to be used including defined geographic boundaries, data collection method, data entry, and data documentation procedures. The detailed budget must provide detailed cost including salaries of staff involved in the project and the portion of those salaries to be paid from the award, fringe benefits paid to each staff person, travel costs, supplies required for the project, sub-contractual agreements, and other allowable costs. The grant will be made for a period of 12 months.

Dated: February 12, 2002.
Lawrence A. Greenfeld,
Director, Bureau of Justice Statistics.

[FR Doc. 02-3872 Filed 2-15-02; 8:45 am]

BILLING CODE 4410-18-P